DEPARTMENT OF JUSTICE

Notice of Lodging of Proposed Consent Decree under the National Marine Sanctuaries Act

On August 25, 2020, the Department of Justice lodged a proposed Consent Decree with the United States District Court for the Southern District Florida in the lawsuit entitled United States v. Key West Express, LLC., Civil Action No. 4:20-cv-10100-JLK.

The Consent Decree resolves claims brought against Key West Express, LLC. for recovery of damages under the National Marine Sanctuaries Act (“NMSA”), 16 U.S.C. § 1443(a)(1), arising from the December 27, 2016 incident when Defendant's catamaran ferry (named “Big Cat Express”) ran aground and destroyed sanctuary resources in the Florida Keys National Marine Sanctuary. The proposed Consent Decree resolves the claim for $2,246,596.09.

The publication of this notice opens a period for public comment on the Consent Decree. Comments should be addressed to the Assistant Attorney General, Environment and Natural Resources Division, and should refer to United States v. Key West Express, LLC., D.J. Ref. No. 90-5-1-1-12188. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $4.25 (25 cents per page reproduction cost) payable to the United States Treasury.

Lori Jonas,
Assistant Section Chief, Environmental Enforcement Section, Environment and Natural Resources Division.

[FR Doc. 2020-19270 Filed 8-31-20; 8:45 am]

BILLING CODE 4410-15-P